DEPARTMENT OF VETERANS AFFAIRS

[OMB Control No. 2900-0860]

Agency Information Collection Activity: Reimbursement of Adoption Expenses for Certain Veterans

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before July 23, 2019,

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-0860” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Reimbursement of Adoption Expenses for Certain Veterans, VA Form 10-10152.

OMB Control Number: 2900-0860.

Type of Review: Extension of a currently approved collection.

Abstract: Section 260 of the Continuing Appropriations and Military Construction, Veterans Affairs, and Related Agencies Appropriations Act, 2017, and Zika Response and Preparedness Act (Pub. L. 114-223) states that VA may use appropriated funds available to VA for the Medical Services account to provide, among other things, reimbursement of adoption expenses to a covered Veteran. “Covered Veteran” means a Veteran who has a service-connected disability that results in the inability of the Veteran to procreate without the use of fertility treatment. The term “adoption reimbursement” is defined at Public Law 114-223 section 260(a)(4) to mean reimbursement for the adoption-related expenses for an adoption that is finalized after the date of the enactment of the Act under the same terms as apply under the adoption reimbursement program of the Department of Defense, as authorized in Department of Defense Instruction 1341.09, including the reimbursement limits and requirements set forth in such instruction. This law was enacted on September 29, 2016, and funding for the program is authorized through September 30, 2018. VA's authority to provide reimbursement of qualifying adoption expenses to the same cohort described in Public Law 114-223 section 260 was subsequently renewed and extended in nearly identical form in section 236 of Division J, Military Construction, Veterans Affairs, and Related Agencies Appropriations Act, 2018, Public Law 115-141 (March 23, 2018) (the “2018 Act”). Under this most recent authority, VA's adoption expense reimbursement program remains subject to the funding period covered by the 2018 Act and the availability of appropriations. To implement this benefit, VA has developed VA Form 10-10152, paralleling DD 2675, which requires any Veteran requesting reimbursement of qualifying adoption expenses to submit the same types of evidence as required under the DoD policy, as mandated by Public Law 114-223 section 260. VA Form 10-10152 was previously approved by OMB through the PRA clearance process, and VA now seeks an extension of that approval of this information collection.

Affected Public: Individuals and households.

Estimated Annual Burden: 480 hours.

Estimated Average Burden per Respondent: 6 hours.

Frequency of Response: One time only.

Estimated Number of Respondents: 80.

By direction of the Secretary.
Danny S. Green,
Interim VA Clearance Officer, Office of Quality, Performance and Risk (OQPR), Department of Veterans Affairs.

[FR Doc. 2019-10966 Filed 5-23-19; 8:45 am]

BILLING CODE 8320-01-P